ENVIRONMENTAL PROTECTION AGENCY

40 CFR Part 52

[EPA-R04-OAR-2025-0045; FRL-12937-02-R4]

Air Plan Approval; GA; Removal of Emissions Statements Requirement and Updates To Permit by Rule

AGENCY: Environmental Protection Agency (EPA).

ACTION: Final rule.

SUMMARY: The Environmental Protection Agency (EPA) is approving changes to the Georgia State Implementation Plan (SIP) submitted by the Georgia Department of Natural Resources Environmental Protection Division (GA EPD), on June 27, 2024, to revise a source monitoring and reporting regulation by, among other things, removing the requirement for emissions statements in counties formerly designated as nonattainment for ozone and to revise the permit by rule regulation. EPA is approving these revisions pursuant to the Clean Air Act (CAA or Act).

DATES: This rule is effective November 3, 2025.

ADDRESSES: EPA has established a docket for this action under Docket Identification No. EPA-R04-OAR-2025-0045. All documents in the docket are listed on the regulations.gov website. Although listed in the index, some information may not be publicly available, i.e., Confidential Business Information or other information whose disclosure is restricted by statute. Certain other material, such as copyrighted material, is not placed on the internet and will be publicly available only in hard copy form. Publicly available docket materials are available either electronically through www.regulations.gov or in hard copy at the Air Regulatory Management Section, Air Planning and Implementation Branch, Air and Radiation Division, U.S. Environmental Protection Agency, Region 4, 61 Forsyth Street SW, Atlanta, Georgia 30303-8960. EPA requests that if at all possible, you contact the person listed in the FOR FURTHER INFORMATION CONTACT section to schedule your inspection. The Regional Office's official hours of business are Monday through Friday 8:30 a.m. to 4:30 p.m., excluding Federal holidays.

FOR FURTHER INFORMATION CONTACT: Weston Freund, Air Regulatory Management Section, Air Planning and Implementation Branch, Air and Radiation Division, Region 4, U.S. Environmental Protection Agency, 61 Forsyth Street SW, Atlanta, Georgia 30303-8960. The telephone number is (404) 562-8773. Mr. Freund can also be reached via electronic mail at freund.weston@epa.gov.

SUPPLEMENTARY INFORMATION:

I. This Action

EPA is approving changes to the Georgia SIP submitted by the State of Georgia through a letter dated June 27, 2024, to revise a source monitoring and reporting regulation and the permit by rule regulation.¹ Specifically, the changes address Rules 391-3-1-.02(6)(a), Specific Monitoring and Reporting Requirements for Particular Sources, and 391-3-1-.03(11)(b)7, Coating and/or Gluing Operations.²

¹ On July 9, 2025, EPA received a letter from GA EPD clarifying that the changes to 391-3-1-.03(11)(b)7.(i). do not include the language, “or enforceable as a practical matter limiting the source to below Part 70 or Part 63 major source thresholds.” This phrase was originally submitted to EPA on December 15, 2011, and was subsequently included in a partial withdrawal letter dated January 8, 2019.

² The June 27, 2024, submittal also contains changes to Rules 391-3-1-.02(1), General Requirement; 391-3-1-.02(2)(nnn), NOX Emissions from Large Stationary Gas Turbines; 391-3-1-.03(1), Construction (SIP) Permit; 391-3-1-.03(6)(j), Construction Permit Exemption for Pollution Control Projects; 391-3-1-.03(8), Permit Requirements; and 391-3-1-.03(13), Emission Reduction Credits. EPA will address these changes in a separate rulemaking.

Through a notice of proposed rulemaking (NPRM), published on August 21, 2025, (90 FR 40795), EPA proposed to approve the June 27, 2024, changes to Georgia Rules 391-3-1-.02(6)(a), Specific Monitoring and Reporting Requirements for Particular Sources, and 391-3-1-.03(11)(b)7, Coating and/or Gluing Operations. Comments on the August 21, 2025, NPRM were due on or before September 11, 2025. EPA received two comments, one in support and one potentially adverse. EPA addresses the potentially adverse comment in the following section.

II. Response to Comments

EPA summarizes and responds to the potentially adverse comment below.

The commenter “recommend[ed] under no circumstance that the rules be changed or plans approved that endanger the air and water quality Georgians have a God given right to have. The governement [sic] should not be allowing companies to pollute the air we breathe and the water we drink, and then leave Georgian taxpayer the bill for clean up.” However, it is not clear whether the comment is adverse because the commenter does not explain why the changes EPA proposed to approve to the Georgia SIP in the August 21, 2025, NPRM would “endanger” air or water quality. As explained in the August 21, 2025, NPRM, the change to remove the emissions statement requirement merely removes an emissions reporting requirement that is only applicable in areas designated as “nonattainment” for the ozone NAAQS. As explained in the NPRM, the Atlanta Area was redesignated to “attainment/unclassifiable” for the 2015 8-hour ozone National Ambient Air Quality Standard (NAAQS) in an October 17, 2022, action (87 FR 62733), and no other part of the State is designated “nonattainment” for the 2015 standard or any other NAAQS. Thus, this reporting obligation is no longer required pursuant to the CAA. This change to the SIP to remove the reporting requirement does not impact any air emissions and is not related to water quality regulations. Further, the changes made to the permit by rule regulations are minor and clarifying in nature and do not relax the existing rule. Therefore, EPA is finalizing approval of the changes to the Georgia SIP transmitted in the June 27, 2024, submittal.

III. Incorporation by Reference

In this document, EPA is finalizing regulatory text that includes incorporation by reference. In accordance with requirements of 1 CFR 51.5, and as discussed in Section I of this preamble, EPA is finalizing the incorporation by reference of Rules 391-3-1-.02(6)(a), Specific Monitoring and Reporting Requirements for Particular Sources, and 391-3-1-.03(11)(b)7, Coating and/or Gluing Operations,³ state effective on June 19, 2023. EPA has made, and will continue to make, these materials generally available through www.regulations.gov and at the EPA Region 4 Office (please contact the person identified in the “For Further Information Contact” section of this preamble for more information). Therefore, these materials have been approved by EPA for inclusion in the State implementation plan, have been incorporated by reference by EPA into that plan, are fully federally enforceable under sections 110 and 113 of the CAA as of the effective date of the final rulemaking of EPA's approval, and will be incorporated by reference in the next update to the SIP compilation.⁴

³ Except that EPA is not proposing to incorporate by reference into the SIP the phrase “or enforceable as a practical matter limiting the source to below Part 70 or Part 63 major source thresholds” within Rule 391-3-1-.03(11)(b)7., Coating and/or Gluing Operations.

⁴ 62 FR 27968 (May 22, 1997).

IV. Final Action

EPA is approving the aforementioned Georgia SIP revision consisting of changes to Rules 391-3-1-.02(6)(a), Specific Monitoring and Reporting Requirements for Particular Sources, and 391-3-1-.03(11)(b)7, Coating and/or Gluing Operations,⁵ state effective June 19, 2023, for the reasons discussed above.

⁵ Except that EPA is not proposing to incorporate by reference into the SIP the phrase “or enforceable as a practical matter limiting the source to below Part 70 or Part 63 major source thresholds” within Rule 391-3-1-.03(11)(b)7., Coating and/or Gluing Operations.

V. Statutory and Executive Order Reviews

Under the CAA, the Administrator is required to approve a SIP submission that complies with the provisions of the CAA and applicable Federal regulations. See 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian tribe has demonstrated that a tribe has jurisdiction. In those areas of Indian country, the rule does not have Tribal implications and will not impose substantial direct costs on Tribal governments or preempt Tribal law as specified by Executive Order 13175 (65 FR 67249, November 9, 2000).

This action is subject to the Congressional Review Act, and EPA will submit a rule report to each House of the Congress and to the Comptroller General of the United States. This action is not a “major rule” as defined by 5 U.S.C. 804(2).

Under section 307(b)(1) of the CAA, petitions for judicial review of this action must be filed in the United States Court of Appeals for the appropriate circuit by December 1, 2025. Filing a petition for reconsideration by the Administrator of this final rule does not affect the finality of this action for the purposes of judicial review nor does it extend the time within which a petition for judicial review may be filed, and shall not postpone the effectiveness of such rule or action. This action may not be challenged later in proceedings to enforce its requirements. See section 307(b)(2).

List of Subjects in 40 CFR Part 52

Environmental protection, Air pollution control, Incorporation by reference, Intergovernmental relations, Ozone, Reporting and recordkeeping requirements, Volatile organic compounds.

Dated: September 22, 2025.
Kevin McOmber,
Regional Administrator, Region 4.

For the reasons stated in the preamble, EPA amends 40 CFR part 52 as follows:

PART 52—APPROVAL AND PROMULGATION OF IMPLEMENTATION PLANS

1. The authority citation for part 52 continues to read as follows:

Authority: 42 U.S.C. 7401 et seq.

Subpart (L)—Georgia

2. In § 52.570(c), amend Table 1 to Paragraph (c) by revising the entries for “391-3-1-.02(6)” and “391-3-1-.03(11)”.

The revisions to read as follows:

§ 52.570 Identification of plan.

* * * * *

(c) * * *

Table 1 to Paragraph (c)—EPA-Approved Georgia Regulations
State citation | Title/subject | State effective date | EPA approval date | Explanation
* * * * * * *
391-3-1-.02(6) | Source Monitoring | 8/1/2013 | 7/28/2017, 82 FR 35108 | Except paragraph (a), which was approved on 10/2/2025 with a state effective date of 6/19/2023.
* * * * * * *
391-3-1-.03(11) | Permit by Rule | 7/23/2018 | 11/22/2019, 84 FR 64427 | Except section (b)(7), which was approved on 10/2/2025 with a state effective date of 6/19/2023; sections (a)-(b)(5) and (b)(8)-(b)(10), which were approved on 2/9/2010 with a state effective date of 7/20/2005; section (b)(6), which was approved on 3/13/2000 with a state effective date of 12/25/1997; the phrase “or enforceable as a practical matter” in section (b)(11)(i), which is not in the SIP; and the phrase “or enforceable as a practical matter limiting the source to below Part 70 or Part 63 major source thresholds” within (b)(7)(i), which is not in the SIP.
* * * * * * *

* * * * *

[FR Doc. 2025-19228 Filed 10-1-25; 8:45 am]

BILLING CODE 6560-50-P